DEPARTMENT OF THE INTERIOR

Fish and Wildlife Service

Notice of Receipt of Application for Endangered Species Permit

AGENCY: Fish and Wildlife Service. Interior.

ACTION: Notice of receipt.

The following applicant has applied for a permit to conduct certain activities with an endangered species. This notice is provided pursuant to section 10(c) of the Endangered Species Act of 1973, as amended (16 U.S.C. 1531 et seq.):

Applicant: USDA Forest Service, Parsons, West Virginia PRT-TE032363.

The applicant requests authorization to take (harm and/or harass during management of habitat and monitoring of species) Trifolium stoloniferum (running buffalo clover) throughout Tucker County, West Virginia for the purpose of enhancement and survival of the species.

Documents and other information submitted with this application are available for review by any party who submits a written request for a copy of such documents to the following office within 30 days of the date of publication of this notice: U.S. Fish and Wildlife Service, 300 Westgate Center Drive, Hadley, Massachusetts 01035. Attention: Diane Lynch, Regional Permits Coordinator. Telephone: (413) 253-8628; Facsimile: (413) 253-8482.

Written data or comments should be submitted to the Regional Permits Coordinator, at the above address, and must be received on or before October 10, 2000.

Dated: August 28, 2000.
Richard A. Coleman,
Acting Regional Director, Region 5.

[FR Doc. 00-23082 Filed 9-7-00; 8:45 am]

BILLING CODE 4310-55-M